DEPARTMENT OF COMMERCE

International Trade Administration

A-357-812

Honey from Argentina: Notice of Extension of Time Limit for Preliminary Results of Antidumping Duty Administrative Review

AGENCY: Import Administration, International Trade Administration, Department of Commerce.

EFFECTIVE DATE: July 7, 2008.

FOR FURTHER INFORMATION CONTACT: Maryanne Burke or Robert James, AD/CVD Operations, Office 7, Import Administration, International Trade Administration, U.S. Department of Commerce, 14th Street and Constitution Avenue, NW, Washington, DC 20230; telephone: (202) 482-5604 or (202) 482-0649, respectively.

SUPPLEMENTARY INFORMATION:

Background

On December 3, 2007, the Department of Commerce (the Department) published in the Federal Register its notice of opportunity to request an administrative review of the antidumping duty order on honey from Argentina. See Antidumping or Countervailing Duty Order, Finding, or Suspended Investigation; Opportunity to Request Administrative Review, 72 FR 67889 (December 3, 2007). In response, on December 31, 2007, the American Honey Producers Association and the Sioux Honey Association (collectively, petitioners) requested an administrative review of the antidumping duty order on honey from Argentina for the period December 1, 2006 through November 30, 2007. On January 28, 2008, the Department published a notice of initiation of this administrative review. See Initiation of Antidumping and Countervailing Duty Administrative Reviews and Request for Revocation in Part, 73 FR 4829 (January 28, 2008). The current deadline for the preliminary results of this review is September 2, 2008.

Extension of Time Limit for Preliminary Results

Section 751(a)(3)(A) of the Tariff Act of 1930, as amended (the Tariff Act), requires the Department to complete the preliminary results of an administrative review within 245 days after the last day of the anniversary month of an order for which a review is requested. However, if it is not practicable to complete the review within this time period, section 751(a)(3)(A) of the Tariff Act allows the Department to extend the 245-day time limit for the preliminary results to a maximum of 365 days.

The Department has determined it is not practicable to complete this review within the statutory time limit because we require additional time to conduct sales below-cost investigations of three respondents. We also require additional time to fully develop the record and analyze information related to the request for partial revocation of the order with respect to Seylinco, S.A. For these reasons, it is impracticable to complete the preliminary results of this administrative review within the originally-specified time limit. Accordingly, the Department is extending the time limit for completion of the preliminary results of this administrative review until no later than December 19, 2008, which is 354 days from the last day of the anniversary month. We intend to issue the final results no later than 120 days after publication of the preliminary results notice.

This notice is issued and published in accordance with sections 751(a)(3)(A) and 777(i)(1) of the Tariff Act.

Dated: June 30, 2008.
Stephen J. Claeys,
Deputy Assistant Secretary for Import Administration.

[FR Doc. E8-15315 Filed 7-3-08; 8:45 am]

BILLING CODE 3510-DS-S